DEPARTMENT OF ENERGY

Federal Energy Regulatory Commission

[Docket No. CP15-537-000]

DBM Pipeline, LLC; Notice of Withdrawal of Staff Protest to Proposed Blanket Certificate Activity

Commission staff (Protestor) hereby withdraws its Protest to the Proposed Blanket Certificate Activity filed in the above-referenced proceeding on October 2, 2015.

In its prior notice request filed on July 27, 2015 (in Docket No. CP15-537-000) and noticed on August 6, 2015,¹ DBM Pipeline, LLC (DBM Pipeline) proposed to construct and operate approximately 9 miles of 20-inch-diameter pipeline in Reeves and Culberson Counties, Texas, and Eddy County, New Mexico (Project). Protestor protested the prior notice request filed under the provisions of Part 157, subpart F, of the Commission's regulations, because DBM Pipeline did not file in its application or supplemental filings, the Bureau of Land Management comments on the Project and did not provide adequate avoidance plans to have no effect on historic properties. In addition DBM Pipeline did not provide complete responses to the FERC Environmental Data Request dated September 23, 2015.

¹ Notice of the request was published in the Federal Register on August 13, 2015 (80 Fed. Reg. 48520).

Protestor notes that on November 3, 2015, DBM Pipeline filed a data response with comments from the Texas and New Mexico State Historic Preservation Officers (SHPOs), dated June 23, 2015 and October 27, 2015 respectively, stating that the Project would either have no effect on or would avoid historic properties. DBM Pipeline also filed an avoidance plan for three cultural resources in New Mexico. Additionally, the BLM agreed with the avoidance plan and stated the Project would have no effect on historic properties in a letter dated November 2, 2015. FERC staff agrees with the Texas and New Mexico SHPOs and finds the avoidance plan acceptable. Finally, DBM Pipeline submitted complete responses to the FERC Environmental Data Request dated September 23, 2015.

Thus, Protestor's environmental concern has been satisfied. Accordingly, Protestor hereby withdraws its Protest to the Proposed Blanket Certificate Activity filed in the instant docket on October 2, 2015.

Dated: November 4, 2015.
Nathaniel J. Davis, Sr.,
Deputy Secretary.

[FR Doc. 2015-28635 Filed 11-10-15; 8:45 am]

BILLING CODE 6717-01-P